NUCLEAR REGULATORY COMMISSION

Atomic Safety and Licensing Board

Before Administrative Judges: Ronald M. Spritzer, Chairman, Nicholas G. Trikouros, Dr. Sekazi K. Mtingwa

In the Matter of NEXTERA ENERGY SEABROOK, LLC, (Seabrook Station, Unit 1).

Docket No. 50-443-LA-2

ASLBP No. 17-953-02-LA-BD01

June 25, 2019

Notice of Hearing

(Notice of Evidentiary Hearing and Opportunity To Provide Oral and Written Limited Appearance Statements)

Pursuant to 10 CFR 2.312, the Atomic Safety and Licensing Board (Board) hereby provides notice that it will convene an evidentiary session to receive testimony and exhibits in the contested portion of this proceeding. In addition, the Board gives notice that, in accordance with 10 CFR 2.315(a), it will entertain oral and written limited appearance statements from members of the public in connection with this proceeding.

I. Background of Proceeding

This proceeding arises from a license amendment request (LAR) filed by NextEra Energy Seabrook, LLC (NextEra),¹ concerning the operating license for Seabrook Station, Unit 1 (Seabrook), located in Seabrook, New Hampshire. The LAR sought to revise the Unit 1 Updated Final Safety Analysis Report (UFSAR) to include methods for analyzing the impact of concrete degradation caused by an alkali-silica reaction (ASR) affecting Seismic Category I reinforced concrete structures.² The LAR includes a monitoring program comprised of: (1) “Periodic measurement of ASR expansion” (ASR Expansion Monitoring); and (2) “periodic inspections of ASR-affected structures to identify and trend building deformation” (Structural Deformation Monitoring).³ C-10 Research and Education Foundation (C-10) filed a petition challenging the LAR, which included ten contentions.⁴

¹ License Amendment Request 16-03, Revise Current Licensing Basis to Adopt a Methodology for the Analysis of Seismic Category I Structures with Concrete Affected by Alkali-Silica Reaction, 1-3 of 73 (unnumbered) (Aug. 1, 2016) (ADAMS Accession No. ML16216A240) [hereinafter Original LAR].

NextEra supplemented the Original LAR on September 30, 2016, (ADAMS Accession No. ML16279A048), October 3, 2017 (ADAMS Accession No. ML17277A337), October 17, 2017 (ADAMS Accession No. ML17291B136), December 11, 2017 (ADAMS Accession No. ML17345A641), and June 7, 2018 (ADAMS Accession No. ML18158A540). Collectively, the Original LAR and all supplements, plus all enclosures and attachments constitute the “LAR.”

² See Original LAR Enclosure 7, “NextEra Energy Seabrook's Evaluation of the Proposed Change (Non-Proprietary),” (unnumbered) (undated) at p. 7 of 73.

³ Original LAR § 3.5.

⁴ C-10 Research and Education Foundation, Inc. Petition for Leave to Intervene: Nuclear Regulatory Commission Docket No. 50-443 at 2-3 (April 10, 2017).

In LBP-17-7, the Board concluded that C-10 had standing and admitted five contentions, three of which it narrowed from C-10's original proposal.⁵ The Board reformulated the contentions into a single contention, finding that the reformulated contention met the NRC's admissibility requirements.⁶ The contention the Board admitted—comprised of Contentions A, B, C, D, and H—is as follows:

⁵ LBP-17-7, 86 NRC 59, 68 (2017).

⁶ Id. at 89-90.

The large-scale test program, undertaken for NextEra at the [Ferguson Structural Engineering Laboratory], has yielded data that are not “representative” of the progression of ASR at Seabrook. As a result, the proposed monitoring, acceptance criteria, and inspection intervals are not adequate.⁷

⁷ Id. at 90. The Board concluded that C-10's other contentions were inadmissible. Id. at 131-37.

II. Matters To Be Considered

The evidentiary hearing will concern the Board's single reformulated contention. Each element of the reformulated contention relates to C-10's central challenge to the representative nature of the large-scale test program conducted at the Ferguson Structural Engineering Laboratory (FSEL). The test program, along with available scientific literature, forms the basis of the license amendment request submitted by NextEra that accounts for the effects of ASR in the design basis of seismic Category I reinforced concrete structures at Seabrook.

III. Date, Time, and Location for Evidentiary Hearing

The evidentiary hearing will commence on the following date at the specified location and time:

Date: Tuesday, September 24, 2019.

Time: 9:30 a.m. to 5:30 p.m., EDT.

Location: Newburyport City Hall Auditorium, 60 Pleasant Street, Newburyport, MA 01950.

The hearing will continue from day-to-day through Friday, September 27, 2019, if necessary.

Members of the public and representatives of the media are welcome to attend and observe this evidentiary hearing, which will involve technical, scientific, and legal questions and testimony. Participation in the hearing will be limited to the parties, their lawyers, and witnesses. Please be aware that security measures may be employed at the entrance to the facility, including searches of hand-carried items such as briefcases or backpacks. No signs, banners, posters, or other displays will be permitted in the facility.⁸

⁸ See Procedures for Providing Security Support for NRC Public Meetings/Hearings, 66 FR 31,719 (June 12, 2001) [hereinafter Meeting Security Guidelines].

IV. Date, Time, and Location of Oral Limited Appearance Statement Session

One oral limited appearance statement session regarding this evidentiary hearing proceeding will be held on the following date at the specified location and time:

Date: Monday, September 23, 2019.

Time: 6:00 p.m. to 8:00 p.m., EDT.

Location: Newburyport City Hall Auditorium, 60 Pleasant Street, Newburyport, MA 01950.

As required by NRC policy, signs, banners, posters, and displays not larger than 18 inches by 18 inches will be permitted at the oral limited appearance statement session, but may not be waved or held over one's head. Any sign, banner, poster or display affixed to a stick, or similar device, will not be permitted at the oral limited appearance statement session.⁹

⁹ See Meeting Security Guidelines.

All individuals attending the oral limited appearance statement session are advised that security measures may be employed at the entrance to the facility. All individuals attending the oral limited appearance statement session should bring at least one form of government issued photo identification, refrain from bringing any unnecessary hand-carried items that might need to be examined individually, and allow sufficient time for security screening.

V. Participation Guidelines for Oral Limited Appearance Statements

Any person not a party or representative of a party to the proceeding will be permitted to make an oral statement on a matter of concern related to the proceeding. Though these statements do not constitute testimony or evidence, they nonetheless may aid the Board and/or the parties in their consideration of the issues involved in the evidentiary hearing.

Oral limited appearance statements will be entertained during the hours specified above. In the event that all scheduled and unscheduled speakers present at the session have made a presentation, the Board reserves the right to terminate the session prior to the ending time listed above.

The time allotted for each limited appearance statement will be five minutes, but may be further limited depending on the number of requests to make an oral statement that are submitted in accordance with section VI below.

VI. Submitting a Request To Make an Oral Limited Apperance Statement

Although a request to make an oral limited appearance statement may be submitted either prior to or at the limited appearance session, those who have submitted timely written requests before the limited appearance session will be given priority over those who have not filed such requests. To be considered timely, a written request to make an oral statement must either be mailed, faxed, or sent by email so as to be received by 5:00 p.m. EDT on Friday, September 13, 2019.

Written requests to make an oral statement should be submitted to:

Mail: Molly Mattison, Law Clerk, Atomic Safety and Licensing Board Panel, Mail Stop T3 A 27, U.S. Nuclear Regulatory Commission, Washington, DC 20555-0001.

Fax: (301) 415-5206 (verification (301) 415-0181).

Email: Molly.Mattison@nrc.gov.

VII. Submitting Written Limited Appearance Statements

As provided in 10 CFR 2.315(a), any person not a party or a representative of a party to the proceeding may submit a written statement setting forth his or her position on matters of concern related to the proceeding. A written limited appearance statement may be submitted at any time and should be sent to the Office of the Secretary and the Licensing Board Chairman using one of the methods prescribed below:

Office of the Secretary

Mail: Office of the Secretary, Rulemakings and Adjudications Staff, U.S. Nuclear Regulatory Commission, Washington, DC 20555-0001.

Fax: (301) 415-1101 (verification (301) 415-1677).

Email: hearingdocket@nrc.gov.

Chairman of the Licensing Board

Mail: Administrative Judge Ronald M. Spritzer, Chairman, Atomic Safety and Licensing Board Panel, Mail Stop T3 A 27, U.S. Nuclear Regulatory Commission, Washington, DC 20555-0001.

Fax: (301) 415-5206 (verification (301) 415-0181).

Email: Molly.Mattison@nrc.gov.

VIII. Availability of Documents

NextEra's application, and various NRC Staff documents relating to the application, are available on the NRC website at https://www.nrc.gov/info-finder/reactors/seab1.html. These and other documents relating to this proceeding are available for public inspection at the Commission's Public Document Room (PDR), located at One White Flint North, 11555 Rockville Pike (first floor), Rockville, Maryland 20852 or electronically from the publicly-available records component of the NRC's document system (ADAMS). ADAMS is accessible from the NRC website at www.nrc.gov/reading-rm/adams.html (the Public Electronic Reading Room).¹⁰ Persons who do not have access to ADAMS or who encounter problems in accessing the documents located in ADAMS should contact the NRC Public Document Room reference staff by telephone at (800) 397-4209 or (301) 415-4737 (available between 8:00 a.m. and 4:00 p.m. Eastern Time, Monday through Friday except federal holidays), or by email to pdr.resource@nrc.gov.

¹⁰ Documents which are determined to contain sensitive or proprietary information may only be available in redacted form. All non-sensitive documents are available in their complete form.

It is so ordered.
For the Atomic Safety and Licensing Board. Rockville, Maryland.
June 25, 2019.
Ronald M. Spritzer,
Chairman, Administrative Judge.

[FR Doc. 2019-13899 Filed 6-27-19; 8:45 am]

BILLING CODE 7590-01-P